DEPARTMENT OF VETERANS AFFAIRS

Advisory Committee on Chiropractic Care Implementation; Notice of Meeting

The Department of Veterans Affairs (VA) gives notice under Public Law 92-463 (Federal Advisory Committee Act) that the Advisory Committee on Chiropractic Care Implementation will hold its final meeting Tuesday, December 6, 2005, from 8:15 a.m. until 5 p.m. at 810 Vermont Avenue, NW., Room 430, and Wednesday, December 7, 2005 from 8:15 a.m. until 3:30 p.m. at 811 Vermont Avenue, NW., Room 147, Washington, DC. The meeting is open to the public.

The purpose of the Committee is to provide advice to the Secretary of Veterans Affairs on the implementation and evaluation of the chiropractic care program. The Committee will focus on monitoring the nationwide program implementation, reviewing and evaluating policy and program issues that affect implementation, recommending actions to improve the chiropractic health program, assisting in long-range planning and development, and such other matters as the Secretary determines to be appropriate.

On December 6, the Committee will receive an update on the status of VA's implementation of the chiropractic care program, briefings on related topics, and conduct a conference call with doctors of chiropractic at VA facilities. On December 7, the Committee will discuss and develop its final report to the Secretary of Veterans Affairs.

Any member of the public wishing to attend the meeting is requested to contact Ms. Sara McVicker, RN, MN, Designated Federal Officer, at (202) 273-8559 not later than 12 noon Eastern time on Thursday, December 1, 2005 in order to facilitate entry to the building.

Oral comments from the public will not be accepted at the meeting. Any comments from interested parties on issues related to chiropractic care may be transmitted electronically to sara.mcvicker@va.gov or mailed to: Advisory Committee on Chiropractic Care Implementation, Patient Care Services (11A), U.S. Department of Veterans Affairs, 810 Vermont Avenue, NW., Washington, DC 20420.

Dated: November 9, 2005.
By Direction of the Secretary.
E. Philip Riggin,
Committee Management Officer.

[FR Doc. 05-22822 Filed 11-17-05; 8:45am]

BILLING CODE 8320-01-M